ENVIRONMENTAL PROTECTION AGENCY

[EPA-HQ-OECA-2008-0899; FRL-8757-5]

Agency Information Collection Activities; Proposed Collection; Comment Request; NSPS for Stationary Compression Ignition Internal Combustion Engines; EPA ICR Number 2196.03, OMB Control Number 2060-0590

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on August 31, 2009.

DATES: Comments must be submitted on or before February 27, 2009.

ADDRESSES: Submit your comments, identified by Docket ID Number EPA-HQ-OECA-2008-0899 by one of the following methods:

• http://www.regulations.gov: Follow the on-line instructions for submitting comments.

• E-mail: docket.oeca@epa.gov.

• Fax: (202) 566-1511.

• Mail: Enforcement and Compliance Docket and Information Center (ECDIC), Environmental Protection Agency, EPA Docket Center (EPA/DC), Mailcode: 2201T, 1200 Pennsylvania Avenue, NW., Washington, DC 20460.

• Hand Delivery: Enforcement and Compliance Docket and Information Center (ECDIC), Environmental Protection Agency, EPA Docket Center (EPA/DC), EPA West, Room 3334, 1301 Constitution Avenue, NW., Washington, DC. The EPA Docket Center is open from 8:30 a.m. to 4:30 p.m., Monday through Friday, excluding legal holidays. Deliveries are only accepted during the Docket Center's normal hours of operation, and special arrangements should be made for deliveries of boxed information.

Instructions: Direct your comments to Docket ID Number EPA-HQ-OECA-2008-0899. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Learia Williams; Compliance Assessment and Media Programs Division, Environmental Protection Agency, Mailcode 2223A, 1200 Pennsylvania Avenue, NW., Washington, DC 20460; telephone number, (202) 564-4113; fax number (202) 564-0050; or via e-mail to williams.learia@epa.gov.

SUPPLEMENTARY INFORMATION:

How Can I Access the Docket and/or Submit Comments?

EPA has established a public docket for this ICR under Docket ID Number EPA-HQ-OECA-2008-0899 which is available for online viewing at http://www.regulations.gov, or in person viewing at the Enforcement and Compliance Docket in the EPA Docket Center (EPA/DC), EPA West, Room 3334, 1301 Constitution Avenue, NW., Washington, DC. The EPA/DC Public Reading Room is open from 8:30 a.m. to 4:30 p.m., Monday through Friday, excluding legal holidays. The telephone number for the Reading Room is (202) 566-1744, and the telephone number for Enforcement and Compliance Docket is (202) 566-1752.

Use http://www.regulations.gov to obtain a copy of the draft collection of information, submit or view public comments, access the index listing of the contents of the docket, and to access those documents in the public docket that are available electronically. Once in the system, select “search,” then key in the docket ID number identified in this document.

What Particular Information Is of Interest to EPA?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When Preparing Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

To What Information Collection Activity or ICR Does This Apply?

In compliance with the Paperwork Reduction Act (44 U.S.C. 3501 et seq.), this notice announces that EPA is planning to submit the following ICR for renewal: NSPS for Stationary Compression Ignition Internal Combustion Engines; EPA ICR Number 2196.03, OMB Control Number 2060-0590; Docket ID Number EPA-HQ-OECA-2008-0899.

Affected entities: Entities potentially affected by this action are facilities with stationary compression internal combustion engines.

Title: NSPS for Stationary Compression Ignition Internal Combustion Engines (40 CFR Part 60, Subpart IIII).

ICR numbers: EPA ICR Number 2196.03, OMB Control Number 2060-0590.

ICR status: This ICR is currently scheduled to expire on August 31, 2009. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The affected entities are subject to the General Provisions of the NSPS at 40 CFR part 60, subpart A and any changes, or additions to the General Provisions specified at 40 CFR part 60, subpart IIII.

Owners or operators of the affected facilities must make an initial notification and keep records related to engine performance.

Burden Statement: The existing ICR provides a detailed explanation of the Agency's estimate, which is only briefly summarized below. The annual public reporting and recordkeeping burden for this collection of information is estimated to average approximately one hour per response.

Estimated Number of Respondents: 152,546.

Frequency of Response: Initially.

Estimated Total Annual Hour Burden: 152,733.

Estimated Total Annual Cost: $242,000, which is comprised of no annualized capital/startup costs and O&M costs of $242,000.

Are There Changes in the Estimates from the Last Approval?

It is anticipated that the number of respondents will increase to approximately 210,000 for this ICR due to full implementation of the standard so that it covers all affected entities. The existing ICR uses the average number of respondents during the initial period of implementation.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: December 16, 2008.
Lisa Lund,
Director, Office of Compliance.

[FR Doc. E8-30821 Filed 12-24-08; 8:45 am]

BILLING CODE 6560-50-P